DEPARTMENT OF HEALTH AND HUMAN SERVICES

Centers for Disease Control and Prevention

[60-Day-11-11FE]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Daniel Holcomb, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Musculoskeletal Disorder (MSD) Intervention Effectiveness in Wholesale/Retail Trade Operations—New—National Institute for Occupational Safety and Health (NIOSH), Centers for Disease Control and Prevention (CDC).

Background and Brief Description

The mission of the National Institute for Occupational Safety and Health (NIOSH) is to promote safety and health at work for all people through research and prevention. Under Public Law 91-596, sections 20 and 22 (Section 20-22, Occupational Safety and Health Act of 1970), NIOSH has the responsibility to conduct research to advance the health and safety of workers. In this capacity, NIOSH proposes to conduct a study to assess the effectiveness and cost-benefit of occupational safety and health (OSH) interventions for musculoskeletal disorders (MSDs) among wholesale/retail trade (WRT) workers.

In 2008, MSDs accounted for $15.2 billion or 28% of total direct workers compensation costs of illnesses or injuries in private industry. The WRT industry sector employs over 21 million workers or 19% of the workforce in private industry. MSDs accounted for 28% of the total non-fatal injuries and illnesses involving days away from work (DAW) in the WRT sector in 2008. The majority (91%) of these severe MSD cases were associated with overexertion during material handling. Identifying effective controls to reduce overexertion MSDs is a key step in reducing the overall injury/illness burden in the WRT sector. It follows that major NIOSH strategic goals in the WRT sector are to reduce MSDs in part, by assessing the effectiveness and cost-benefit of interventions. Most prior MSD intervention effectiveness studies have been quasi-experimental designs focused on short term workload assessments as outcomes. The studies have also been mixed in quality and findings. There is a clear need to conduct rigorous experimental research to define further the effectiveness and cost-benefit of MSD control interventions. A renewed partnership between NIOSH and the Ohio Bureau of Workers Compensation (OBWC) provides a timely opportunity to conduct such research in a relevant and efficient manner.

For the current study, NIOSH and the OBWC will collaborate on a multi-site intervention study at OBWC-insured WRT companies from 2011-2014. In overview, MSD engineering control interventions [stair-climbing, powered hand trucks (PHT) and powered truck lift gates (TLG)] will be tested for effectiveness in reducing self-reported back and upper extremity pain among 960 employees performing delivery operations in 72 WRT establishments using a prospective experimental design (multiple baselines across groups with randomization). These interventions were chosen because prior OBWC pilot studies indicated the interventions had a high level of acceptability to target employees and initial high effectiveness in reducing MSD risk factors and potential future MSDs. The costs of the interventions will be funded through existing OBWC funds and participating establishments. This study will provide important information that is not currently available elsewhere on the effectiveness of OSH interventions for WRT workers. This project fits the mission of CDC-NIOSH to conduct scientific intervention effectiveness research to support the evidenced based prevention of occupational injuries and illnesses.

For this study, the target population (people, groups or workplaces which might benefit from the MSD interventions being tested) includes United States WRT establishments (North American Industry Classification System codes 42-45) performing delivery operations. The sampling frame (segment of the target population) includes OBWC-insured WRT establishments performing delivery operations. The study sample (people, work groups or workplaces chosen from the sampling frame) includes OBWC-insured WRT establishments who volunteer to participate in the OBWC-NIOSH collaboration research project.

Twenty-four OBWC-insured WRT establishments will be recruited from each of three total employee categories (<20 employees, 20-99 employees, and 100+ employees) for a total of 72 establishments with 3,240 employees. The study sub-sample (people, work groups or workplaces chosen from the sampling frame) will be volunteer employees at OBWC-insured WRT establishments who perform material handling tasks related to the delivery operations of large items (such as appliances, furniture, vending machines, furnaces, or water heaters) that are expected to be impacted by the powered hand truck (PHT) and truck lift gate (TLG) interventions. It is estimated that there will be 960 impacted employees in the recruited establishments, which will be paired according to previous WC loss history and establishment size. Within each pair, one establishment will be randomly chosen to receive the PHT or TLG intervention in the first phase, and the other will serve as a matched control until it receives the same intervention 12 months later.

The main outcomes for this study are self-reported low back pain and upper extremity pain collected using surveys every three months over a two-year period from volunteer WRT delivery workers at participating establishments. Individuals will also be asked to report usage of the interventions and material handling exposures every three months over two years. Individuals will also be asked to complete an annual health assessment survey at baseline, and once annually for two years. A 20% sample of survey participants will also be asked to participate in a clinical assessment of low back function at baseline, and once annually for two years. In order to maximize efficiency and reduce burden, a Web-based survey is proposed for the majority (95%) of survey data collection. All collected information will be used to determine whether there are significant differences in reported musculoskeletal pain and functional back pain score ratios (pre/post intervention scores) when intervention and control groups are compared, while controlling for covariates. Once the study is completed, results will be made available through the NIOSH Internet site and peer-reviewed publications.

In summary, this study will determine the effectiveness of the tested MSD interventions for WRT delivery workers and enable evidence based prevention practices to be shared with the greatest audience possible. NIOSH expects to complete data collection in 2014. There is no cost to respondents other than their time.

Estimated Annualized Burden Hours
Type of respondent | Form name | Number of respondents | Number of responses per respondent | Avg. burden per response (in hours) | Total burden (in hours)
Delivery Workers in Wholesale/Retail Trade (WRT) Operations | Self-reported low back pain | 960 | 9 | 5/60 | 720
| Self-reported upper extremity pain | 960 | 9 | 5/60 | 720
| Self-reported specific job tasks and safety incidents | 960 | 9 | 5/60 | 720
| Self-reported general work environment and health | 960 | 3 | 10/60 | 480
| Informed Consent Form (Overall Study) | 960 | 1 | 5/60 | 80
| Low Back Functional Assessment | 192 | 3 | 20/60 | 192
| Informed Consent Form (Low Back Functional Assessment) | 960 | 1 | 5/60 | 80
| Early Exit Interview | 106 | 1 | 5/60 | 9
Total |  |  |  |  | 3,001

Dated: May 12, 2011.
Daniel Holcomb,
Reports Clearance Officer, Centers for Disease Control and Prevention.

[FR Doc. 2011-12172 Filed 5-17-11; 8:45 am]

BILLING CODE 4163-18-P